NUCLEAR REGULATORY COMMISSION

[NRC-2011-0266]

Evaluations of Uranium Recovery Facility Surveys of Radon and Radon Progeny

AGENCY: Nuclear Regulatory Commission.

ACTION: Interim staff guidance; issuance.

SUMMARY: The U.S. Nuclear Regulatory Commission (NRC) is issuing Interim Staff Guidance (ISG) DUWP-ISG-01, “Evaluations of Uranium Recovery Facility Surveys of Radon and Radon Progeny in Air and Demonstrations of Compliance with 10 CFR 20.1301.” This ISG provides guidance to the NRC staff for evaluating uranium recovery (UR) licensee demonstrations of compliance with the public dose limits. This action is necessary because there is insufficient existing guidance on this topic. This action will benefit NRC staff and UR licensees by providing detailed descriptions of methods acceptable to the NRC staff to meet the public dose limit requirement.

DATES: This guidance goes into effect on July 22, 2019.

ADDRESSES: Please refer to Docket ID NRC-2011-0266 when contacting the NRC about the availability of information regarding this document. You may obtain publicly-available information related to this document using any of the following methods:

• Federal Rulemaking Website: Go to http://www.regulations.gov and search for Docket ID NRC-2011-0266. Address questions about NRC docket IDs to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The final ISG, DUWP-ISG-01, “Evaluations of Uranium Recovery Facility Surveys of Radon and Radon Progeny in Air and Demonstrations of Compliance with 10 CFR 20.1301,” is available in ADAMS under Accession No. ML15051A002.

• NRC's PDR: You may examine and purchase copies of public documents at the NRC's PDR, Room O1-F21, One White Flint North, 11555 Rockville Pike, Rockville, Maryland 20852.

FOR FURTHER INFORMATION CONTACT: David Brown, Office of Nuclear Material Safety and Safeguards; U.S. Nuclear Regulatory Commission, Washington, DC 20555-0001; telephone: 301-415-7677; email: David.Brown@nrc.gov.

SUPPLEMENTARY INFORMATION:

I. Discussion

Uranium recovery facility licensees, including in-situ recovery facilities and conventional uranium mills, are required to perform surveys of radiation levels in unrestricted and controlled areas, and to perform surveys of radioactive materials in effluents released to unrestricted and controlled areas to demonstrate compliance with the dose limits for individual members of the public provided in § 20.1301 of title 10 of the Code of Federal Regulations (10 CFR). The NRC's regulations in 10 CFR 20.1302 permit the use of alternative approaches to demonstrate compliance with the public dose limits.

This ISG was developed to document the criteria to be used by the NRC to review radon and radon progeny surveys and evaluations of dose to members of the public submitted by licensees under 10 CFR 20.1302 to demonstrate compliance with the NRC's public dose limits of 10 CFR 20.1301. Specifically, this final ISG provides guidance to the NRC staff for reviewing licensee evaluations of doses to members of the public from radon-222 and radon-222 progeny from UR facilities including: (1) Surveys of environmental and effluent radon and radon progeny in air; and (2) radon-related aspects of demonstrations of compliance with the NRC's public dose limits of 10 CFR 20.1301. This ISG also may be used by the NRC in evaluating portions of license applications, renewals, or amendments dealing with radon and radon progeny surveys and compliance. The NRC published an initial draft version of this ISG for public comment on November 21, 2011 (76 FR 72006). The NRC considered the public comments in preparing a revised draft report, published for public comment on March 27, 2014 (79 FR 17194). The NRC then considered the public comments on the revised draft in preparing the final report. This ISG was also the subject of an NRC staff non-concurrence. A completed NRC Non-Concurrence Process Form 757 is available in ADAMS under Accession No. ML19121A171.

The NRC has prepared a regulatory analysis for this ISG. The analysis examines the costs and benefits of the alternatives considered by the NRC. The regulatory analysis can be found in ADAMS under Accession No. ML19057A490.

This ISG is a rule as defined in the Congressional Review Act (5 U.S.C. 801-808). However, the Office of Management and Budget has not found it to be a major rule as defined in the Congressional Review Act.

Dated at Rockville, Maryland, this 14th day of June, 2019.
For the Nuclear Regulatory Commission.
Bo M. Pham,
Deputy Director, Division of Decommissioning, Uranium Recovery and Waste Programs, Office of Nuclear Material Safety and Safeguards.

[FR Doc. 2019-13005 Filed 6-19-19; 8:45 am]

BILLING CODE 7590-01-P